OFFICE OF THE UNITED STATES TRADE REPRESENTATIVE

Fiscal Year 2022 Allocation of Additional Tariff-Rate Quota Volume for Raw Cane Sugar

AGENCY: Office of the United States Trade Representative.

ACTION: Notice.

SUMMARY: The Office of the United States Trade Representative (USTR) is providing notice of the allocations of additional Fiscal Year (FY) 2022 in-quota quantities of the World Trade Organization (WTO) tariff-rate quota (TRQ) for imported raw cane sugar. The Foreign Agricultural Service (FAS) of the U.S. Department of Agriculture has determined that all sugar entering the United States under the FY 2022 raw sugar TRQ will be permitted to enter the U.S. Customs territory through October 31, 2022.

DATES: The changes made by this notice are applicable as of July 21, 2022.

FOR FURTHER INFORMATION CONTACT: Erin Nicholson, Office of Agricultural Affairs, at 202-395-9419, or Erin.H.Nicholson@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamations 6763 (60 FR 1007) and 7235 (64 FR 55611).

On July 11, 2022, the FAS announced an additional in-quota quantity of the TRQ for raw cane sugar for the remainder of FY 2022 (ending September 30, 2022) in the amount of 90,718 metric tons raw value (MTRV) (conversion factor: 1 metric ton raw value = 1.10231125 short tons raw value). This quantity is in addition to the minimum amount to which the United States is committed under the WTO Uruguay Round Agreements (1,117,195 MTRV). The FAS also has determined that all sugar entering the United States under the FY 2022 raw sugar TRQ will be permitted to enter the U.S. Customs territory through October 31, 2022, a month later than the usual last entry date. USTR is allocating this additional quantity of 90,718 MTRV to the following countries in the amounts specified below:

Country | FY 2022 raw sugar TRQ increase allocations (MTRV)
Argentina | 4,840
Australia | 9,342
Barbados | 788
Belize | 1,238
Bolivia | 900
Brazil | 16,320
Colombia | 2,701
Costa Rica | 1,688
Dominican Republic | 19,809
Ecuador | 1,238
El Salvador | 2,926
Eswatini (Swaziland) | 1,801
Fiji | 1,013
Guatemala | 5,402
Guyana | 1,351
Honduras | 1,126
India | 900
Malawi | 1,126
Mauritius | 1,351
Mozambique | 1,463
Panama | 3,264
Peru | 4,615
South Africa | 2,589
Thailand | 1,576
Zimbabwe | 1,351

The allocations of the in-quota quantities of the raw cane sugar TRQ to countries that are net importers of sugar are conditioned on receipt of the appropriate verifications of origin. Certificates of quota eligibility must accompany imports from any country for which an allocation has been provided.

Greta Peisch,
General Counsel, Office of the United States Trade Representative.

[FR Doc. 2022-15539 Filed 7-20-22; 8:45 am]

BILLING CODE 3290-F2-P